DEPARTMENT OF COMMERCE

National Oceanic and Atmospheric Administration

[RTID 0648-XA933]

South Atlantic Fishery Management Council (Council)—Public Meetings

AGENCY: National Marine Fisheries Service (NMFS), National Oceanic and Atmospheric Administration (NOAA), Commerce.

ACTION: Notice of the South Atlantic Fishery Management Council's (Council) Mackerel Cobia Advisory Panel (AP).

SUMMARY: The South Atlantic Fishery Management Council (Council) will hold a meeting of its Mackerel Cobia AP on April 6, 2021.

DATES: The meeting will be held via webinar on April 6, 2021, from 1 p.m. until 5:30 p.m.

ADDRESSES: Council address: South Atlantic Fishery Management Council, 4055 Faber Place Drive, Suite 201, N. Charleston, SC 29405.

Meeting Address: The meeting will be held via webinar. The webinar is open to members of the public. Registration is required. Webinar registration, an online public comment form, and briefing book materials will be available two weeks prior to the meeting at: http://safmc.net/safmc-meetings/current-advisory-panel-meetings/.

FOR FURTHER INFORMATION CONTACT: Christina Wiegand, Fishery Social Scientist, SAFMC; phone 843/571-4366 or toll free 866/SAFMC-10; FAX 843/769-4520; email: kim.iverson@safmc.net.

SUPPLEMENTARY INFORMATION: The Mackerel Cobia AP will meet via webinar. The AP will discuss Coastal Migratory Pelagics (CMP) Amendment 34 addressing updates to catch levels and allocations for Atlantic king mackerel and proposed modifications to management measures and CMP Amendment 32 addressing updates to catch levels and allocations for Gulf cobia and proposed modifications to management measures. AP members will also update the fishery performance reports for CMP species, including discussion on the effect of coronavirus. AP members will receive an update on recent Council discussion regarding the structure of the AP and possible collaboration with the Atlantic States Marine Fisheries Commission. The AP will provide recommendations for Council consideration as appropriate.

Special Accommodations

These meetings are physically accessible to people with disabilities. Requests for auxiliary aids should be directed to the council office (see ADDRESSES) five (5) days prior to the meeting.

Note: The times and sequence specified in this agenda are subject to change.

Authority: 16 U.S.C. 1801 et seq.

Dated: March 16, 2021.
Tracey L. Thompson,
Acting Deputy Director, Office of Sustainable Fisheries, National Marine Fisheries Service.

[FR Doc. 2021-05752 Filed 3-18-21; 8:45 am]

BILLING CODE 3510-22-P